DEPARTMENT OF ENERGY

Federal Energy Regulatory Commission

[Docket No. CP09-123-000]

Colorado Interstate Gas Company; Notice of Request Under Blanket Authorization

April 17, 2009.

Take notice that on April 9, 2009, Colorado Interstate Gas Company (CIG), P.O. Box 1087 Colorado Springs, CO 80944, filed a prior notice request pursuant to Parts 157.205 and 157.208 of the Commission's regulations under the Natural Gas Act (NGA) for authorization to increase the maximum allowable operating pressure (MAOP), under CIG's blanket certificate issued in Docket No. CP83-21-000, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, CIG requests authorization to increase the MAOP of the Blue Spruce Lateral (Lateral) located in Adams County, CO. The Lateral is a 16-inch outside diameter pipeline approximately 1 mile in length. The Lateral is located in between CIG's Watkins compressor station and the Blue Spruce and the Red Maple meter stations. CIG requests authorization to uprate the MAOP of the Lateral from 920 psig to 1,200 psig on Line No. 251A.

Any questions regarding the application should be directed to Richard Derryberry, Director of Regulatory Affairs, Colorado Interstate Gas Company, P.O. Box 1087 Colorado Springs, CO 80944, phone: (719) 520-3782, fax: (719) 667-7534, e-mail: CIGregulatoryaffairs@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E9-9599 Filed 4-27-09; 8:45 am]

BILLING CODE 6717-01-P